ELECTION ASSISTANCE COMMISSION

Publication of State Plans Pursuant to the Help America Vote Act

AGENCY: Election Assistance Commission (EAC).

ACTION: Notice.

SUMMARY: Pursuant to section 255(b) of the Help America Vote Act (HAVA), Public Law 107-252, the U.S. Election Assistance Commission (EAC) hereby causes to be published in the Federal Register changes to HAVA State plans previously submitted by California, Florida, Kansas, Nevada, Pennsylvania, South Carolina and Tennessee.

DATES: This notice is effective upon publication in the Federal Register.

FOR FURTHER INFORMATION CONTACT: Bryan Whitener, Telephone 202-566-3100 or 1-866-747-1471 (toll-free).

Submit Comments: Any comments regarding the plans published herewith should be made in writing to the chief election official of the individual States at the address listed below.

SUPPLEMENTARY INFORMATION: On March 24, 2004, the U.S. Election Assistance Commission published in the Federal Register the original HAVA State plans filed by the 50 States, the District of Columbia and the Territories of American Samoa, Guam, Puerto Rico, and the U.S. Virgin Islands. 69 FR 14002. HAVA anticipated that States, Territories and the District of Columbia would change or update their plans from time to time pursuant to HAVA section 254 (a)(11) through (13). EAC wishes to acknowledge the effort that went into the revising the State plans and encourages public comment. EAC also notes that plans published herein include only those that have already met the notice and comment requirements of HAVA section 256.

Upon the expiration of 30 days from October 30, 2004, the States whose plans are published herein will be eligible to implement any material changes addressed therein, in accordance with HAVA section 254(a)(11)(C). At that time, in accordance with HAVA section 253(d), California, Florida, Kansas and Tennessee also may file a statement of certification to obtain fiscal year 2004 requirements payments for which the State did not previously qualify under HAVA section 253(b)(1). The statement of certification must confirm that the jurisdiction is in compliance with all of the requirements referred to in HAVA section 253(b) and must be provided to the Election Assistance Commission in order for the State to receive a requirements payment under HAVA Title II, Subtitle D.

Chief State Election Officials

California

The Honorable Kevin Shelley, Secretary of State, 1500 11th Street, Sacramento CA 95814-2974, Phone: (916) 653-7244, Fax: (916) 653-4620, e-mail: hava@ss.ca.gov.

Florida

The Honorable Glenda E. Hood, Secretary of State, R.A. Gray Building-Room 316, 500 S. Bronough Street, Tallahassee FL 32399-0250, Phone: (850) 245-6500, Fax: (850) 245-6125, e-mail: secretaryofstate@mail.dos.state.fl.us.

Kansas

The Honorable Ron Thornburgh, Secretary of State, Memorial Hall—1st Flr., 120 SW., 10th Avenue, Topeka KS 66612-1594, Phone: (785) 296-4575, Fax: (785) 291-3051, e-mail: election@kssos.org.

Nevada

The Honorable Dean Heller, Secretary of State, Capitol Building, 101 North Carson Street—Suite. 3, Carson City NV 89701-4786, Phone: (775) 684-5708, Fax: (775) 684-5725, e-mail: sosmail@govmail.state.nv.us.

Pennsylvania

The Honorable Pedro A. Cortes, Secretary of the Commonwealth, 302 North Office Building, Harrisburg PA 17120-0029, Phone: (717) 787-6458, Fax: (717) 787-1734, e-mail: gborger@state.pa.us.

South Carolina

Ms. Marci Andino, Executive Director, State Election Commission, PO Box 5987, Columbia SC 29250-5987, Phone: (803) 734-9060, Fax: (803) 734-9366, e-mail: Elections@scsec.state.sc.us.

Tennessee

Mr. Brook Thompson, Coordinator of Elections, Elections Division, Office of the Secretary of State, 9th Floor, William R. Snodgrass Tower, 312 8th Avenue North, Nashville TN 37243-0309, Phone: (615) 741-7956, Fax: (615) 741-1278, e-mail: Tennessee.Elections@state.tn.us.

Thank you for your interest in improving the voting process in America.

Dated: September 23, 2004.
DeForest B. Soaries, Jr.,
Chairman, U.S. Election Assistance Commission.

BILLING CODE 6820-MP-U

[FR Doc. 04-21768 Filed 9-29-100; 8:45 am]

BILLING CODE 6820-MP-C